DEPARTMENT OF AGRICULTURE

Submission for OMB Review; Comment Request

June 20, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical or other technological collection techniques or other forms of information technology.

Comments regarding this information collection received by July 26, 2013 will be considered. Written comments should be addressed to: Desk Officer for Agriculture, Office of Information and Regulatory Affairs, Office of Management and Budget (OMB), New Executive Office Building, 725—17th Street NW., Washington, DC, 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Farm and Ranch Irrigation Survey.

OMB Control Number: 0535-0234.

Summary of Collection: The Farm and Ranch Irrigation Survey (FRIS) is a follow-on survey and in integral part of the 2012 Census of Agriculture which is conducted every five years under the authority of the Census of Agriculture Act of 1997 (Pub. L. 105-113). This law requires the Secretary of Agriculture to conduct a census of agriculture beginning in 2002 and every fifth year thereafter (prior to that the census was conducted by the Department of Commerce). The 2013 FRIS will be obtaining data describing the irrigation activities of U.S. farm operations. Some of these activities are of national concern, such as the use of chemigation, fertigation and water-conserving practices of irrigators. The 2013 FRIS will also include a horticultural operations in a combined questionnaire that will be directed at horticultural producers.

Need and Use of the Information: NASS will collect information from the FRIS on acres irrigated by land use category, acres and yields of irrigated and non-irrigated crops, quantity of water applied and method of application to selected crops, acres irrigated and quantity of water used by source, acres irrigated by type of water distribution systems, and number of irrigation wells and pumps. The primary purpose of FRIS is to provide detailed data on water management practices and water uses in American agriculture, and to on-farm irrigation activities for use in preparing a wide variety of water-related local programs, economic models, legislative initiatives, market analyses, and feasibility studies. The absence of FRIS data would certainly affect irrigation policy decision.

Description of Respondents: Farms.

Number of Respondents: 35,000.

Frequency of Responses: Reporting: Other (one-time).

Total Burden Hours: 29,433.

Charlene Parker,
Departmental Information Collection Clearance Officer.

[FR Doc. 2013-15205 Filed 6-25-13; 8:45 am]

BILLING CODE 3410-20-P